ENVIRONMENTAL PROTECTION AGENCY

[ER-FRL-9009-2]

Environmental Impacts Statements; Notice of Availability

Responsible Agency: Office of Federal Activities, General Information (202) 564-7146 or http://www.epa.gov/compliance/nepa/.

Weekly receipt of Environmental Impact Statements Filed 05/06/2013 Through 05/10/2013.

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: Due to EPA's agency-wide furlough day on Friday, May 24th and the Federal holiday on Monday, May 27th, all EISs must be filed with EPA by Thursday, May 23rd by 5:00 pm Eastern Time for publication under a Notice of Availability in the Federal Register for Friday, May 31st.

EIS No. 20130125, Draft Supplement, FTA, CA, Mid-Coast Corridor Transit Project, Comment Period Ends: 07/17/2013, Contact: Mary Nguyen 213-202-3960.

EIS No. 20130126, Final EIS, BLM, AZ, Mohave County Wind Farm Project, Review Period Ends: 06/17/2013, Contact: Jackie Neckels 602-417-9262.

EIS No. 20130127, Draft EIS, NMFS, AK, Steller Sea Lion Protection Measures for Groundfish Fisheries in the Bering Sea and Aleutian Islands Management Area, Comment Period Ends: 07/16/2013, Contact: Melanie Brown 907-586-7228.

EIS No. 20130128, Final EIS, USFS, MT, Pilgrim Timber Sale Project, Kootenai National Forest, Review Period Ends: 06/17/2013, Contact: Doug Grupenhoff 406-827-0741.

EIS No. 20130129, Draft EIS, USA, TX, Implementation of Energy, Water, and Solid Waste Sustainability Initiatives at Fort Bliss, Texas and New Mexico, Comment Period Ends: 07/01/2013, Contact: Pamela M. Klinger 210-466-1595.

EIS No. 20130130, Draft EIS, USFS, WY, Clinker Mining Addition Project, Medicine Bow-Routt National Forests and Thunder Basin National Grassland, Comment Period Ends: 07/01/2013, Contact: Amy Ormseth 307-358-4690

Dated: May 14, 2013.
Cliff Rader,
Director, NEPA Compliance Division, Office of Federal Activities.

[FR Doc. 2013-11823 Filed 5-16-13; 8:45 am]

BILLING CODE 6560-50-P